DEPARTMENT OF COMMERCE

International Trade Administration

University of California, San Diego; Notice of Withdrawal of Application for Duty-Free Entry of Scientific Instruments

The University of California, San Diego has withdrawn Docket Number 03-047 an application for duty-free entry of Wave Measurement Instrumentation/Equipment. We have discontinued processing in accordance with section 301.5(g) of 15 CFR part 301.

Gerald A. Zerdy,
Program Manager, Statutory Import Programs Staff.

[FR Doc. 03-27041 Filed 10-24-03; 8:45 am]

BILLING CODE 3510-DS-P